DEPARTMENT OF EDUCATION

Technical Assistance on Data Collection—General Supervision Enhancement Grants

AGENCY: Office of Special Education and Rehabilitative Services, Department of Education.

ACTION: Notice of final priorities.

SUMMARY: The Assistant Secretary for Special Education and Rehabilitative Services announces three separate funding priorities under the Technical Assistance on State Data Collection program authorized under the Individuals with Disabilities Education Act (IDEA). The Assistant Secretary may use the priorities for competitions in fiscal year (FY) 2007 and later years. We take this action to focus attention on an identified national need to provide technical assistance to improve the capacity of States to meet data collection requirements.

EFFECTIVE DATE: This priority is effective August 8, 2007.

FOR FURTHER INFORMATION CONTACT: Larry Wexler, U.S. Department of Education, 400 Maryland Avenue, SW., room 4053, Potomac Center Plaza, Washington, DC 20202-2700. Telephone: (202) 245-7571 or via Internet: larry.wexler@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION: Under the Technical Assistance on State Data Collection program established under section 616(i)(2) of the IDEA, we make awards to provide technical assistance to improve the capacity of States to meet the section 616 data collection requirements.

We published a notice of proposed priorities (NPP) for this program in the Federal Register on March 30, 2007 (72 FR 15126). This notice of final priorities contains four changes from the NPP. We fully explain the changes in the Analysis of Comments and Changes section that follows.

Analysis of Comments and Changes

In response to the Secretary's invitation in the NPP, four parties submitted comments on the proposed priorities. An analysis of the comments and the changes we have made follows. We group major issues according to subject. Generally, we do not address technical and other minor and suggested changes that we are not allowed to make under the applicable statutory authority.

Priority A—Modified Academic Achievement Standards and Priority B—Alternate Academic Achievement Standards Comment

Two commenters requested that Priorities A and B require the use of universal design principles in developing alternate assessments based on modified academic achievement standards and alternate assessments based on alternate academic achievement standards.

Discussion: 34 CFR 300.160(g) of the IDEA regulations already requires State educational agencies (SEAs) (or, in the case of a district-wide assessment, local educational agencies (LEAs)), to use universal design principles in developing and administering alternate assessments for children with disabilities, to the extent possible. To require the use of universal design principles in developing alternate assessments under this priority, without consideration for the feasibility, appropriateness, or practicality of their use, would be inappropriate.

Changes: None.

Comment: One commenter recommended that training on universal design principles be included in the training on modified academic achievement standards for individualized education program teams (IEP Teams) required in Priority A.

Discussion: The training required under Priority A focuses on training IEP Teams to use State guidelines to determine the students to be assessed based on modified academic achievement standards. Determining whether universal design principles should be used in developing and implementing alternate assessments is not a responsibility of IEP Teams. Therefore, we believe it would be inappropriate to include training on universal design for IEP Teams, as recommended by the commenter.

Changes: None.

Comment: One commenter stated that projects funded under Priorities A and B should work with an expert who has skills in applying principles of universal design to large-scale assessments, in order to ensure that alternate assessments are, to the extent possible, universally designed.

Discussion: We agree that an expert with experience in applying universal design principles to large-scale assessments would help ensure that alternate assessments, to the extent possible, are universally designed; we will change the list of expert skills in Priorities A and B accordingly.

Changes: We have added, “applying the principles of universal design to large-scale assessments” to the list of expert skills in Priorities A and B.

Comment: One commenter recommended that Priorities A and B emphasize placement in the least restrictive environment (LRE) because children with Down syndrome, and many other children taking alternate assessments based on alternate academic achievement standards, are not provided opportunities to be educated in the LRE with their nondisabled peers.

Discussion: We believe it is unnecessary to include the additional language recommended by the commenter. The regulations on alternate academic achievement standards under Title I of the Elementary and Secondary Education Act of 1965 (ESEA), as amended by the No Child Left Behind Act of 2001 (NCLB), already require that alternate academic achievement standards for students with the most significant cognitive disabilities developed by a State promote access to the general curriculum (§ 200.1(d)(2)). Similarly, § 200.1(f)(2)(iii) of the ESEA regulations requires students who are assessed based on modified academic achievement standards to have access to the curriculum, including instruction, for the grade in which the students are enrolled. In addition, § 300.114(a)(2) of the IDEA regulations requires children with disabilities to be educated with nondisabled children, to the maximum extent appropriate.

Changes: None.

Comment: One commenter stated that an allowable activity under Priority B should be the development of clear and appropriate guidelines for IEP Teams to use in determining students to be assessed based on alternate academic achievement standards. Another commenter recommended that development and implementation of training for IEP Teams on these State guidelines should be allowable activities under Priority B.

Discussion: We agree that Priority B should support the development of clear and appropriate guidelines for IEP Teams to apply in determining students with the most significant cognitive disabilities who should take an alternate assessment based on alternate academic achievement standards, consistent with § 200.1(f)(1)(i)(A) of the ESEA regulations. We also agree that training for IEP Teams on these guidelines is important to ensure that the guidelines are correctly implemented.

Change: Priority B has been revised to include two additional allowable activities: (1) The development of clear and appropriate guidelines for IEP Teams to use in determining when a child's significant cognitive disability justifies assessment based on alternate academic achievement standards; and (2) the development and implementation of training on guidelines for IEP Teams to use in determining which students should be assessed based on alternate academic achievement standards.

Comment: One commenter recommended that the Secretary provide funds to assist States with developing and implementing alternate assessments based on grade-level academic achievement standards.

Discussion: Given the limited availability of funds, we believe that focusing Priorities A and B on alternate assessments based on alternate academic achievement standards and alternate assessments based on modified academic achievement standards will address the needs of the majority of States. Evidence provided by the Office of Elementary and Secondary Education's peer review of Statewide assessment systems is clear that many States need support to improve their alternate assessments based on alternate academic achievement standards. Additionally, States overwhelmingly expressed the need for funds to support the development of alternate assessments based on modified academic achievement standards when the regulations permitting States to develop modified academic achievement standards were published on April 9, 2007. We have not received similar requests for funds to support the development of alternate assessments based on grade-level academic achievement standards.

Changes: None.

Comment: One commenter recommended that Priorities A and B require applicants to collect data on the characteristics of students who take an alternate assessment based on alternate or modified academic achievement standards, such as the disability category and minority status of students, and whether students are economically disadvantaged or have limited proficiency in English. The commenter also recommended requiring data to be collected on instructional variables, such as students' educational placements, the accommodations they received, and whether instruction was provided by highly qualified teachers.

Discussion: We believe that implementing the commenter's recommendations would require significant resources and time and be a burden for States to report and would not necessarily improve the use of funds under this program. Therefore, we decline to make the changes requested by the commenter.

Changes: None.

Comment: One commenter recommended that Priorities A and B require applicants to report the percentage of students with disabilities taking either of the alternate assessments and the percentage of those students whose advanced or proficient scores on those alternate assessments are counted as proficient in calculating adequate yearly progress (AYP).

Discussion: The information regarding participation requested by the commenter is already required under the ESEA and the IDEA. Section 200.6(a)(4) of the ESEA regulations requires States and LEAs to report on the number and percentage of students taking an alternate assessment based on alternate or modified academic achievement standards. Likewise, § 300.160(f) of the IDEA regulations requires States to report on the number of students with disabilities participating in alternate assessments based on alternate or modified academic achievement standards.

Neither the regulations under Title I of the ESEA nor the regulations under Part B of the IDEA require reporting of the percentage of advanced or proficient scores on alternate assessments based on alternate and modified academic achievement standards that are used in calculating AYP, and we do not believe it would be useful or appropriate to impose such a requirement only on grantees under Priorities A and B. As noted previously, these priorities are being established under section 616(i)(2) of the IDEA to improve the capacity of States to meet the section 616 data collection requirements. The information requested is not a part of the section 616 data collection requirements.

Changes: None.

Priority C—Outcome Measures

Comment: One commenter stated that an allowable activity under Priority C should include comparing outcomes of children with disabilities participating in regular preschool programs (defined as a program that has a natural proportion of disabled and non disabled children) with outcomes of children in special education preschool programs.

Discussion: The purpose of this priority is to improve the capacity of States to meet the section 616 data collection requirements under the IDEA. The activity recommended by the commenter extends beyond this purpose. Therefore, we decline to make the commenter's recommended change.

Changes: None.

Comment: None.

Discussion: The NPP inadvertently included a requirement that projects funded under Priority C provide an assurance from the State's Assessment Office that it was given an opportunity to contribute to the formulation of the application. Because Priority C does not involve information related to assessments, this requirement was misplaced.

Changes: The requirement that projects funded under Priority C provide an assurance from the State's Assessment Office that it was given an opportunity to contribute to the formulation of the application has been removed.

Note: This notice does not solicit applications. In any year in which we choose to use one of these priorities, we invite applications through a notice in the Federal Register. When inviting applications, we designate the priority as absolute, competitive preference, or invitational. The effect of each type of priority follows:

Absolute priority: Under an absolute priority, we consider only applications that meet the priority (34 CFR 75.105(c)(3)).

Competitive preference priority: Under a competitive preference priority, we give competitive preference to an application by either (1) Awarding additional points, depending on how well, or the extent to which, the application meets the competitive preference priority (34 CFR 75.105(c)(2)(i)); or (2) selecting an application that meets the competitive preference priority over an application of comparable merit that does not meet the priority (34 CFR 75.105(c)(2)(ii)).

Invitational priority: Under an invitational priority, we are particularly interested in applications that meet the invitational priority. However, we do not give an application that meets the invitational priority a competitive or absolute preference over other applications (34 CFR 75.105(c)(1)).

Note: The Assistant Secretary for Special Education and Rehabilitative Services is establishing three separate funding priorities addressing data collected under the IDEA. Although these are being announced in one notice, these priorities will be funded through separate competitions. Eligible entities must submit separate applications under each of the priorities for which they wish to apply.

Priorities

Background of Priority A—Modified Academic Achievement Standards

On April 9, 2007, the Secretary amended the regulations governing programs administered under Title I of the ESEA, as amended by NCLB, and the regulations governing programs under Part B of the IDEA. These regulations provide States with additional flexibility regarding State, LEA, and school accountability for the achievement of a small group of students with disabilities whose progress is such that, even after receiving appropriate instruction, including special education and related services designed to address the students' individual needs, the students' IEP Teams are reasonably certain that the students will not achieve grade-level proficiency within the year covered by the students' IEPs. These regulations became effective May 9, 2007.

The regulations permit States to develop modified academic achievement standards (and assessments that measure achievement based on those standards) that are aligned with grade-level content standards. States and LEAs are permitted to include the proficient and advanced scores from assessments based on modified academic achievement standards in AYP determinations, subject to a cap of 2.0 percent at the district and State levels based on the total number of students in the grades assessed.

The Secretary anticipates that many States will need support in developing, enhancing, or redesigning their assessment systems to include assessments that are aligned with modified academic achievement standards.

Priority A—Modified Academic Achievement Standards

The Assistant Secretary for Special Education and Rehabilitative Services establishes a priority for grants to support States with one or more of the following activities: (1) Development of modified academic achievement standards based on the State's academic content standards for the grade in which a student is enrolled; (2) development of State assessments using universal design principles, to the extent possible, based on modified academic achievement standards; and (3) development of clear and appropriate guidelines for IEP Teams to use in determining which students should be assessed based on modified academic achievement standards, and the development and implementation of training on those guidelines for IEP Teams.

Assessments based on modified academic achievement standards must be designed to generate valid scores that can be used for AYP accountability purposes under the ESEA. The scores of students with disabilities participating in alternate assessments based on modified academic achievement standards also will be reflected in the data required by the Part B State Performance Plans and Annual Performance Reports on the performance and participation of children with disabilities on State assessments under section 616 of the IDEA.

Applicants must include information in their applications on how they will work with experts in large-scale assessment and special education to ensure that they are designing modified academic achievement standards, and assessments based on those standards, that: (1) Address the needs of students with disabilities; (2) validly, reliably, and accurately measure student performance; and (3) result in high quality data for use in evaluating the performance of schools, districts, and States. The experts selected should represent the range of skills needed to develop assessments based on modified academic achievement standards for students with disabilities that will meet the peer review guidelines for assessments published by the Department in the spring of 2004 that are available at http://www.ed.gov/policy/elsec/guid/saaprguidance.pdf. Skill sets for experts must include experience with one or more of the following: (1) Large scale assessment; (2) standards-setting techniques; (3) assessment and measurement of children with disabilities; (4) accommodations and supports to assess grade-level content; (5) working with States to develop assessments; (6) development of criterion referenced tests and instruments; (7) psychometric evaluation; (8) conducting studies of the technical adequacy of assessment instruments; (9) research and publishing in the area of assessment and psychometrics; and (10) applying the principles of universal design to large-scale assessments.

Projects funded under this priority also must—

(a) Budget to attend a three-day Project Directors' meeting in Washington, DC;

(b) If the project maintains a Web site, include relevant information and documents in a format that meets a government or industry-recognized standard for accessibility; and

(c) Provide a written assurance that the State's Assessment Office (i.e., the office that addresses accountability under Title I of the ESEA) was given the opportunity to contribute to the formulation of the application.

Background of Priority B—Alternate Academic Achievement Standards

The Department's Title I regulations in 34 CFR part 200, regarding children with the most significant cognitive disabilities, permit a State to develop alternate academic achievement standards for students with the most significant cognitive disabilities and to include those students' proficient and advanced scores on alternate assessments based on alternate academic achievement standards in measuring AYP at the State and district levels, subject to a cap of 1.0 percent of the total number of students in the grades assessed. Alternate assessments based on alternate academic achievement standards, as permitted by the Title I regulations, also are recognized as an appropriate assessment method in section 612(a)(16) of the IDEA.

Alternate assessments that are used by States and LEAs under the ESEA, as amended by NCLB, must be designed to generate valid data that can be used for purposes of determining AYP. Alternate assessments also must meet the requirements in 34 CFR 200.2 (State Responsibilities for Assessment) and 34 CFR 200.3 (Designing State Academic Assessment Systems), including the requirements relating to validity, reliability, and high technical quality; and fit coherently in the State's overall assessment system under 34 CFR 200.2. The alternate assessment must, among other things, be: (1) Valid and reliable for the purposes for which the assessment system is used; (2) consistent with relevant, nationally-recognized professional and technical standards; and (3) supported by evidence from test publishers or other relevant sources that the assessment system is of adequate technical quality for each purpose required under the ESEA, as amended by NCLB. States must include alternate assessment data in their State Performance Plan and Annual Performance Reports relative to performance and participation of children with disabilities on State assessments under the IDEA.

The Department is establishing the following priority because many States need assistance in: (1) Developing alternate academic achievement standards aligned with the State's academic content standards; (2) developing high-quality alternate assessments that measure the achievement of students with the most significant cognitive disabilities based on those standards; (3) reporting on the participation and performance of students with disabilities on alternate assessments based on alternate academic achievement standards; and (4) developing clear and appropriate guidelines for IEP Teams to use in determining which students should be assessed based on alternate academic achievement standards, and the development and implementation of training on those guidelines.

Priority B—Alternate Academic Achievement Standards

The Assistant Secretary for Special Education and Rehabilitative Services establishes a priority for grants to support States with one or more of the following activities: (1) Development of alternate academic achievement standards aligned with the State's academic content standards; (2) development of high-quality alternate assessments using universal design principles, to the extent possible, that measure the achievement of students with the most significant cognitive disabilities based on those standards; (3) reporting on the participation and performance of students with disabilities on alternate assessments based on alternate academic achievement standards; and (4) development of clear and appropriate guidelines for IEP Teams to use in determining which students should be assessed based on alternate academic achievement standards, and the development and implementation of training on those guidelines for IEP Teams.

Applicants must include information in their applications on how they will work with experts in large-scale assessment and special education to ensure that they are designing alternate academic achievement standards, and assessments based on those standards, that: (1) Address the needs of students with the most significant cognitive disabilities; (2) validly, reliably, and accurately measure student performance; and (3) result in high quality data for use in evaluating the performance of schools, districts, and States. The experts selected should represent the range of skills needed to develop assessments based on alternate academic achievement standards for students with the most significant cognitive disabilities that will meet the peer review guidelines for assessments published by the Department in the spring of 2004 that are available at http://www.ed.gov/policy/elsec/guid/saaprguidance.pdf. Skill sets for experts must include experience with one or more of the following: (1) Large scale assessment; (2) standards-setting techniques; (3) assessment and measurement of children with disabilities; (4) accommodations and supports to assess grade-level content; (5) working with States to develop assessments; (6) development of criterion-referenced tests and instruments; (7) psychometric evaluation; (8) conducting studies of the technical adequacy of assessment instruments; (9) research and publishing in the area of assessment and psychometrics; and (10) applying the principles of universal design to large-scale assessments.

Projects funded under this priority also must—

(a) Budget to attend a three-day Project Directors' meeting in Washington, DC;

(b) If the project maintains a Web site, include relevant information and documents in a format that meets a government or industry-recognized standard for accessibility; and

(c) Provide a written assurance that the State's Assessment Office (i.e., the office that addresses accountability under Title I of the ESEA) was given the opportunity to contribute to the formulation of the application.

Background of Proposed Priority C—Outcome Measures

The cornerstone of any accountability system is the development of outcome indicators against which progress can be measured. State performance reports, self-assessments, and other extant data show that most States and Lead Agencies, as defined under Part C of the IDEA (section 635(a)(10)), as well as their LEAs and Early Intervention Service programs, do not have well developed systems for measuring the progress of infants, toddlers, and young children with disabilities and their families served under Part B and Part C of the IDEA or methods to collect and analyze Part B and Part C outcome indicator data. Therefore, most States lack the capacity to collect sufficient data to determine the impact of early intervention and special education services for these children.

Priority C—Outcome Measures

The Assistant Secretary for Special Education and Rehabilitative Services establishes a priority for projects that address the needs of States for technical assistance to improve their capacity to meet Federal data collection requirements in one or both of two focus areas.

Focus Area One. Focus Area One supports the development or enhancement of Part B State systems for collecting, analyzing, and reporting preschool outcome indicator data. Projects funded under Focus Area One must focus on improving the capacity of the State to provide information that could be used to determine the following:

(a) The outcomes associated with preschool children with disabilities participating in State Part B programs.

(b) If the State has standards for preschool disability outcomes, whether preschool children with disabilities are meeting those standards.

(c) Trend data on outcomes associated with preschool children with disabilities and the extent to which preschool children with disabilities are meeting State standards.

Focus Area Two. Focus Area Two supports the development or enhancement of Part C systems for collecting, analyzing, and reporting outcome indicator data. Projects funded under Focus Area Two must focus on improving the capacity of the State to provide information that could be used to determine the following:

(a) The outcomes associated with infants and toddlers with disabilities and their families participating in State Part C programs.

(b) If the State has standards for early intervention outcomes, whether infants and toddlers with disabilities are meeting those standards.

(c) Trend data on outcomes associated with infants and toddlers with disabilities and their families and the extent to which infants and toddlers with disabilities are meeting State standards.

Projects funded under this priority also must—

(a) Budget to attend a three-day Project Directors' meeting in Washington, DC; and

(b) If the project maintains a Web site, include relevant information and documents in a format that meets a government or industry-recognized standard for accessibility.

Executive Order 12866

This notice of final priorities has been reviewed in accordance with Executive Order 12866. Under the terms of the order, we have assessed the potential costs and benefits of this regulatory action.

The potential costs associated with this regulatory action are those resulting from statutory requirements and those we have determined as necessary for administering this program effectively and efficiently.

In assessing the potential costs and benefits—both quantitative and qualitative—of this regulatory action, we have determined that the benefits of the regulatory action justify the costs.

We also have determined that this regulatory action does not unduly interfere with State, local, and tribal governments in the exercise of their governmental functions.

Intergovernmental Review

This program is subject to Executive Order 12372 and the regulations in 34 CFR part 79. One of the objectives of the Executive Order is to foster an intergovernmental partnership and a strengthened federalism. The Executive Order relies on processes developed by State and local governments for coordination and review of Federal financial assistance.

This document provides early notification of our specific plans and actions for this program.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.htm.

(Catalog of Federal Domestic Assistance Number 84.373X Technical Assistance on Data Collection—General Supervision Enhancement Grants)

Program Authority: 20 U.S.C. 1411(c) and 1416(i)(2).

Dated: July 3, 2007.
Jennifer Sheehy,
Director of Policy and Planning for Special Education and Rehabilitative Services.

[FR Doc. E7-13229 Filed 7-6-07; 8:45 am]

BILLING CODE 4000-01-P